SOCIAL SECURITY ADMINISTRATION

20 CFR Part 411

[Docket No. SSA-2011-0034]

RIN 0960-AH34

Mailing of Tickets Under the Ticket To Work Program

AGENCY: Social Security Administration.

ACTION: Final rule.

SUMMARY: This final rule adopts, without change, the interim final rule with request for comments we published in the Federal Register on January 12, 2012, at 77 FR 1862. The interim final rule modified our rules so that we may send a Ticket to Work (Ticket) to Ticket to Work program (Ticket program)-eligible disabled beneficiaries. Under our previous rules, we mailed initial Ticket notices to all Ticket-eligible beneficiaries immediately after they began receiving benefits, regardless of whether they were likely to participate in the program. This change did not affect Ticket eligibility requirements.

DATES: The interim final rule with request for comments published on January 12, 2012 is confirmed as final effective July 29, 2013.

FOR FURTHER INFORMATION CONTACT: Mark Green, Office of Retirement and Disability Policy, Office of Employment Support Programs, Social Security Administration, 6401 Security Boulevard, Baltimore, MD 21235-6401, (410) 965-9852. For information on eligibility or filing for benefits, call our national toll-free number, 1-800-772-1213 or TTY 1-800-325-0778, or visit our Internet site, Social Security Online, at www.socialsecurity.gov.

SUPPLEMENTARY INFORMATION: Congress established the Ticket program in the Ticket to Work and Work Incentives Improvement Act of 1999 to provide disability beneficiaries a choice in obtaining the services and technology that they need in order to find, secure, and maintain employment.¹ Under the Ticket program, we may issue Tickets to eligible Social Security disability beneficiaries and disabled or blind Supplemental Security Income (SSI) recipients. The beneficiary may use the Ticket to obtain vocational rehabilitation services, employment services, and other support services from an employment network or from a State vocational rehabilitation agency. This support allows these individuals to enter into and retain employment and reduces dependency on Social Security and SSI cash benefits.

¹ Public Law 106-170.

Prior to the publication of our interim final rule with request for comments, we mailed Tickets to all Ticket-eligible beneficiaries shortly after we awarded a disability or blindness-related benefit, regardless of the likelihood that the beneficiary would participate in the program. Our interim final rule revised § 411.130 of our regulations so that we may send a Ticket to an eligible beneficiary and clarified that Ticket-eligible beneficiaries may receive a Ticket upon request. The change is consistent with the language of section 1148(b)(1) of the Social Security Act, which gives us discretion as to the form and manner in which Tickets may be distributed.² Removing the requirement that we send Tickets to all eligible beneficiaries regardless of the likelihood that the beneficiary will ever use the Ticket allows us to focus our limited resources on those beneficiaries who are most likely to return to work.

² Section 1148(b)(1) of the Act states, “The Commissioner may issue a ticket to work and self-sufficiency to disabled beneficiaries for participation in the Program.” 42 U.S.C. 1348(b)(1).

We inform all newly eligible disabled beneficiaries about their eligibility for the Ticket program in their award letters and we remind current Ticket-eligible beneficiaries of the availability of the program via routine correspondence. To increase awareness of the Ticket program, we are also conducting outreach directed toward eligible beneficiaries who are most likely to return to work. We will send a Ticket to any eligible beneficiary upon request, regardless of whether we have identified the beneficiary through our outreach efforts. This change has made the Ticket program more effective and has not affected Ticket eligibility requirements.

Public Comments

We published an interim final rule with request for comments in the Federal Register at 77 FR 1862, on January 12, 2012, and provided a 60-day comment period. We received one comment from a member of the public. We carefully considered the concerns expressed in this comment, but did not make any changes to the interim final rule. Below is a summary of the comment and our response to the issues that are within the scope of the interim final rule.

Comment: The commenter expressed concern that we did not study how many participants in the Ticket program we could expect to drop out of the program if we changed the rule and how many people would need to drop out in order to create a net cost to us in excess of the expected one million dollar annual savings. The commenter also stated that we did not mention any possible increase in costs due to enhanced notification and outreach measures that may be required under the interim final rule.

Response: We did not adopt this comment. We stated that we “will save about one million dollars each year in print and mail costs by informing newly eligible disabled beneficiaries about their eligibility for the Ticket program in their award letters instead of sending a separate piece of mail containing a ticket.” ³ Since the rule only affected “newly eligible disabled beneficiaries,” we do not expect any current participants in the Ticket to drop out of the program because of this rule change. Current participants in the Ticket program are unaffected by the change in our rules because they already have a Ticket, and our interim final rules made it clear that current Ticket-eligible beneficiaries who do not have a Ticket may receive one upon request.

³ 77 FR at 1862.

In addition, our re-focused outreach efforts have not resulted in any increase in costs. When we re-focused our outreach efforts, we included notification of eligibility for the Ticket program and reminders about the availability of the program in correspondence that we already send to beneficiaries, such as benefit award letters, cost-of-living adjustment notices, and certain other letters. Re-focusing our existing outreach budget on those beneficiaries most likely to return to work has helped us administer the Ticket program more efficiently without adversely affecting any beneficiary.

Regulatory Procedures

Executive Order 12866 as Supplemented by Executive Order 13563

We consulted with the Office of Management and Budget (OMB) and determined that this final rule does not meet the criteria for a significant regulatory action under Executive Order 12866, as supplemented by Executive Order 13563.

Regulatory Flexibility Act

We certify that this final rule will not have a significant economic impact on a substantial number of small entities because it only affects individuals. Therefore, a regulatory flexibility analysis is not required under the Regulatory Flexibility Act, as amended.

Paperwork Reduction Act

This final rule imposes no reporting or recordkeeping requirements subject to OMB clearance.

(Catalog of Federal Domestic Assistance Program Nos. 96.001, Social Security Disability Insurance; 96.006, Supplemental Security Income)

List of Subjects in 20 CFR Part 411

Administrative practice and procedure, Blind, Disability benefits, Public assistance programs, Reporting and recordkeeping requirements, Social security, Supplemental Security Income (SSI), Vocational rehabilitation.

Dated: July 19, 2013.
Carolyn W. Colvin,
Acting Commissioner of Social Security.

Accordingly, the interim final rule amending 20 CFR chapter III, part 411, subpart B that was published at 77 FR 1862 on January 12, 2012 is adopted as a final rule without change.

[FR Doc. 2013-18148 Filed 7-26-13; 8:45 am]

BILLING CODE 4191-02-P